DEPARTMENT OF JUSTICE

Notice of Lodging of Consent Decree Under the Clean Air Act, Clean Water Act, RCRA, CERCLA and EPCRA

Under 28 CFR 50.7, notice is hereby given that on December 28, 2001, a Consent Decree in United States of America v. ATOFINA Chemicals, Inc., Civil Action No. 01-7807, was lodged with the United States District Court for the Eastern District of Pennsylvania.

In the Complaint, the United States seeks injunctive relief and civil penalties against ATOFINA Chemicals, Inc. (hereinafter, “ATOFINA”), pursuant to section 113(b) of the Clean Air Act (“CAA”), 42 U.S.C. 7413(b) (1983), amended by, 42 U.S.C. 7413(b) (Supp. 1991), section 309 of the Clean Water Act, 33 U.S.C. 1319, and the Resource Conservation and Recovery Act, (“RCRA”), 42 U.S.C. 6901 et seq. for alleged violations at ATOFINA's chemical product manufacturing facilities in Axis, Alabama, Calvert City and Carrollton, Kentucky, Beaumont and Houston, Texas, and Piffard, New York.

Under the settlement, ATOFINA will install pollution control technologies to reduce emissions of volatile organic compounds (“VOCs”) from process units at its Calvert City and Carrollton Kentucky facilities. In addition, ATOFINA will undertake various remedial measures to ensure compliance with the Clean Water Act. The settlement requires ATOFINA to pay a civil penalty of $1.9 million, and perform supplemental environmental projects totaling approximately $300,000.

The Department of Justice will receive comments relating to the Consent Decree for a period of thirty (30) days from the date of this publication. Comments should be addressed to the Assistant Attorney General, Environment and Natural Resources Division, P.O. Box 7611, U.S. Department of Justice, Washington, DC 20044-7611, and should refer to United States, et al., v. ATOFINA Chemicals, Inc., D.J. Ref. 90-7-1-06426.

The Consent Decree may be examined at the Office of the United States Attorney for the Eastern District of Pennsylvania, 615 Chestnut Street, Suite 1250, Philadelphia, PA 19106. A copy of the Consent Decree may also be obtained by mail from the Consent Decree Library, PO Box 7611, U.S. Department of Justice, Washington, DC 20044-7611. In requesting a copy, please enclose a check in the amount of $12.50 (25 cents per page reproduction cost) payable to the Consent Library.

Robert D. Brook,
Assistant Section Chief, Environmental Enforcement Section, Environment and Natural Resources Division.

[FR Doc. 02-1113 Filed 1-15-02; 8:45 am]

BILLING CODE 4410-15-M